MILLENNIUM CHALLENGE CORPORATION

[MCC FR 10-13]

Amendment to the Report on the Selection of Eligible Countries for Fiscal Year 2011

AGENCY: Millennium Challenge Corporation.

ACTION: Notice.

SUMMARY: This notice amends the previously published report entitled “Report on the Criteria and Methodology for Determining the Eligibility of Candidate countries for Millennium Challenge Account Assistance for Fiscal Year 2011,” which appeared October 4, 2010 in the Federal Register (Volume 75, Number 191, pages 61216-61219).

Background

MCC relies on information from the International Monetary Fund (IMF) for its Fiscal Policy indicator. The amendment to the reference report is to adjust for the IMF's decision this year to replace one data series with another of slightly different technical specifications. IMF made this replacement data public on October 6, 2010 and subsequent to our earlier Federal Register notice.

In previous years, the data MCC used for this measure had come primarily from publicly available IMF country reports or, where public IMF data were outdated or unavailable, were provided directly by candidate country governments with input from U.S. missions in host countries. All data were cross-checked with the series General Government Balance (or Central Government Balance) as a percent of gross domestic product (GDP) from the IMF's World Economic Outlook database to try to ensure consistency across countries. However, beginning with the 2010 World Economic Outlook database, the IMF replaced the General Government Balance series with the Net Lending/Borrowing series.

Whereas General Government Balance was calculated as revenue minus expenditure and net lending operations, Net Lending/Borrowing is calculated simply as revenue minus total expenditure. It is similar to General Government Balance, but is believed to be an improved measure; its adoption is part of an IMF migration to a more rigorous, transparent, and comprehensive framework for recording government finance statistics. The Net Lending/Borrowing series is also publicly available for 182 countries as part of the World Economic Outlook database. Consequently, the substitution of the Net Lending/Borrowing series makes MCC's use of this indicator even more transparent.

Amendment

The description of the Fiscal Policy indicator appearing on page 61218 is amended to read:

Fiscal Policy: General government net lending/borrowing as a percent of GDP, averaged over a three-year period. Net lending/borrowing is calculated as revenue minus total expenditure. Source: International Monetary Fund's World Economic Outlook Database.

The previously published language under the heading Fiscal Policy is stricken.

Dated: October 15, 2010.
Melvin F. Williams, Jr.,
VP/General Counsel and Corporate Secretary, Millennium Challenge Corporation.

[FR Doc. 2010-26399 Filed 10-15-10; 4:15 pm]

BILLING CODE 9211-03-P